DEPARTMENT OF COMMERCE

International Trade Administration

[A-823-808]

Final Results of Five-Year Sunset Review of Suspended Antidumping Duty Investigation on Certain Cut-to-Length Carbon Steel Plate from Ukraine

AGENCY: Import Administration, International Trade Administration, Department of Commerce.

ACTION: Notice of Final Results of Full Sunset Review: Certain Cut-to-Length Carbon Steel Plate from Ukraine.

SUMMARY: On December 31, 2002, the Department of Commerce (“the Department”) published a notice of preliminary results of the full sunset review of the suspended antidumping duty investigation on certain cut-to-length carbon plate steel (“CTL plate”) from Ukraine (67 FR 79901), in accordance with section 751(c) of the Tariff Act of 1930, as amended (“the Act”). We provided interested parties an opportunity to comment on our preliminary results. We received a case brief from the Embassy of Ukraine (“the Embassy”). In addition, we received a rebuttal brief from domestic interested parties Bethlehem Steel Corporation and United States Steel Corporation. As a result of this review, the Department finds that termination of the suspended antidumping duty investigation on CTL plate from Ukraine would likely lead to continuation or recurrence of dumping at the levels indicated in the Final Results of Review section of this notice.

EFFECTIVE DATE: May 7, 2003.

FOR FURTHER INFORMATION CONTACT: Shannon M. McCormack or James P. Maeder, Jr., Office of Policy for Import Administration, International Trade Administration, U.S. Department of Commerce, 14th Street and Constitution Avenue, NW, Washington, DC 20230; telephone: (202) 482-2539 or (202) 482-3330, respectively.

SUPPLEMENTARY INFORMATION:

Statute and Regulations:

This review is being conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”) and in 19 CFR Part 351 (2000) in general. Guidance on methodological or analytical issues relevant to the Department's conduct of sunset reviews is set forth in the Department's Policy Bulletin 98.3 Policies Regarding the Conduct of Five-year (“\Sunset”) Reviews of Antidumping and Countervailing Duty Orders; Policy Bulletin, 63 FR 18871 (April 16, 1998) (“Sunset Policy Bulletin”).

Background:

In our preliminary results, published on December 31, 2002 (67 FR 79901), we found that the termination of the suspended antidumping duty investigation on CTL plate from Ukraine would be likely to lead to continuation or recurrence of dumping, at margins determined in the final determination of the original investigation.

On February 10, 2003, the Department received a case brief from the Embassy of Ukraine. See Case Brief from the Embassy of Ukraine, Trade and Economic Mission (February 10, 2003). On February 14, 2003, we received a rebuttal brief from domestic interested parties Bethlehem Steel Corporation and United States Steel Corporation. See Rebuttal Brief from Bethlehem Steel Corporation and United States Steel Corporation (February 14, 2003).

Scope of Review:

The products covered by the sunset review of the suspended antidumping duty investigation on certain cut-to-length carbon steel plate from Ukraine include hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in this review are flat-rolled products of nonrectangular cross-section where such cross-section is achieved subsequent to the rolling process (i.e., products which have been “worked after rolling”) for example, products which have been beveled or rounded at the edges. This merchandise is currently classified in the Harmonized Tariff Schedule of the United States (“HTS”) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000. Although the HTS subheadings are provided for convenience and customs purposes, the written description of the scope of this sunset review is dispositive. Specifically excluded from subject merchandise within the scope of this sunset review is grade X-70 steel plate.

Analysis of Comments Received:

All issues raised by parties to this sunset review are addressed in the Issues and Decision Memorandum (“Decision Memorandum”) from Jeffrey A. May, Director, Office of Policy, Import Administration, to Joseph A. Spetrini, Acting Assistant Secretary, Import Administration, dated May 1, 2003, which is hereby adopted by this notice. The issues discussed in the Decision Memorandum include the likelihood of continuation or recurrence of dumping and the magnitude of the margins likely to prevail were the suspended antidumping duty investigation to be terminated. Parties may find a complete discussion of all issues raised in this review and the corresponding recommendations in this public memorandum which is on file in the Central Records Unit, room B-099, of the main Commerce building. In addition, a complete version of the Decision Memorandum can be accessed directly on the Web at http://ia.ita.doc.gov/frn, under the heading “May 2003.” The paper copy and electronic version of the Decision Memorandum are identical in content.

Final Results of Review:

We determine that termination of the suspended antidumping duty investigation on CTL plate from Ukraine would likely lead to a continuation or recurrence of dumping at the following percentage weighted-average margins:

Manufacturer/producer/exporter | Weighted-average margin ­percentage
Azovstal | 81.43
Ilyich | 155.00
Ukraine-wide | 237.91

This sunset review and notice are in accordance with sections 751(c), 752, and 777(i)(1) of the Act.

Dated: May 1, 2003.
Joseph A. Spetrini,
Acting Assistant Secretary for Import Administration.

[FR Doc. 03-11355 Filed 5-6-03; 8:45 am]

BILLING CODE 3510-DS-S